DEPARTMENT OF COMMERCE

National Oceanic and Atomospheric Administration

50 CFR Part 660

[Docket No. 021209300-3048-02; I.D. 112502C]

Magnuson-Stevens Act Provisions; Fisheries off the West Coast States and in the Western Pacific; Pacific Coast Groundfish Fishery; Groundfish Fishery Management Measures; Correction

AGENCY: National Marine Fisheries Service (NMFS), National Oceanic and Atmospheric Administration (NOAA), Commerce.

ACTION: Final rule; correction.

SUMMARY: This document contains corrections to the final rule published on March 7, 2003, for the Pacific Coast groundfish fishery.

DATES: Effective April 15, 2003.

FOR FURTHER INFORMATION CONTACT: Carrie Nordeen or Jamie Goen (NMFS, Northwest Region), 206-526-6140.

SUPPLEMENTARY INFORMATION: The specifications and management measures for the 2003 fishing year (January 1 - December 31, 2003) were initially published in the Federal Register as an emergency rule for January 1 - February 28, 2003 (68 FR 908, January 7, 2003), and as a proposed rule for March 1 - December 31, 2003 (68 FR 936, January 7, 2003). The emergency rule was amended at 68 FR 4719, January 30, 2003, and the final rule for March 1 - December 31, 2003, was published in the Federal Register on March 7, 2003 (68 FR 11182).

Management measures for the Pacific Coast groundfish fishery, effective March 1 - December 31, 2003 (68 FR 11182, March 7, 2003), contained remnant sablefish size limit language and typographical and transposing errors in the boundary coordinates for the Rockfish Conservation Areas (RCA) that require correction. Coordinates for the following lines are corrected in this document: the 60-fm (110-m) depth contour used between 40°10′ N. lat. and 34°27′ N. lat. as an eastern boundary for the trawl RCA in March through October; the 75-fm (137-m) depth contour used north of 40°10' N. lat. as an eastern boundary for the trawl RCA in the months of July and August; and the 100-fm (183-m) depth contour used north of 40°10′ N. lat. as an eastern boundary for the trawl RCA and as a western boundary for the non-trawl RCA. In addition, this correction removes language referring to size limits and size limit conversions for sablefish. The 2003 management measures do not include a size limit for sablefish. Therefore, references to sablefish size limits in paragraph titles and the conversion factor for headed versus whole sablefish are not necessary and are confusing to the reader. This correction removes those references.

Corrections

In the rule FR Doc. 035166, in the issue of Friday, March 7, 2003 (68 FR 11182) make the following corrections:

1. On page 11202, in column 2, section IV. under A. General Definitions and Provisions, paragraph (6)(d) is corrected to read as follows:

(6) * * *

(d) Sablefish weight limit conversions. The following conversion applies to both the limited entry and open access fisheries when trip limits are effective for those fisheries. For headed and gutted (eviscerated) sablefish, the conversion factor established by the State where the fish is or will be landed will be used to convert the processed weight to round weight for purposes of applying the trip limit. (The conversion factor currently is 1.6 in Washington, Oregon, and California. However, the State conversion factors may differ; fishers should contact fishery enforcement officials in the State where the fish will be landed to determine that State's official conversion factor.)

2. On page 11207, in column 1, section IV. under A. General Definitions and Provisions, paragraph (19)(e)(ii) is corrected to read as follows:

(18) 48°05.91′ N. lat., 125°08.30′ W. long.;

(19) 48°07.00′ N. lat., 125°09.80′ W. long.;

(20) 48°06.93′ N. lat., 125°11.48′ W. long.;

(21) 48°04.98′ N. lat., 125°10.02′ W. long.;

3. On page 11208, in column 2, section IV. under A. General Definitions and Provisions, paragraph (19)(e)(iii) is corrected to read as follows:

(64) 47°08.50′ N. lat., 124°57.74′ W. long.;

(65) 47°01.92′ N. lat., 124°54.95′ W. long.;

4. On page 11212, in column 3, section IV. under A. General Definitions and Provisions, paragraph (19)(e)(vii) is corrected to read as follows:

(21) 37°07.58′ N. lat., 122°37.64′ W. long.;

(23) 36°48.20′ N. lat., 122°03.32′ W. long.;

5. On page 11222, in column 1, section IV. under B. Limited Entry Fishery, paragraphs (2)(a) and (b) are corrected to read as follows:

(2) * * *

(a) Trawl trip limits. * * *

(b) Nontrawl (fixed gear) trip limits. * * *

Authority: 16 U.S.C. 1801 et seq.

Dated: April 4, 2003.
Rebecca Lent,
Deputy Assistant Administrator for Regulatory Programs, National Marine Fisheries Service.

[FR Doc. 03-8821 Filed 4-14-03; 8:45 am]

BILLING CODE 3510-22-S